DEPARTMENT OF STATE

[Public Notice: 10047]

Digital Sequence Information on Genetic Resources Public Meeting

AGENCY: Department of State.

ACTION: Notice of public meeting.

SUMMARY: The Department of State will hold an information session regarding an ongoing process under the Convention on Biological Diversity concerning the use of “digital sequence information on genetic resources,” also known as genetic sequence data.

DATES: The meeting will be held on July 11, 2017, 1-3 p.m.

ADDRESSES: The meeting will be held at the Harry S. Truman Main State Building, Room 3940, 2201 C Street NW., Washington, DC 20520.

FOR FURTHER INFORMATION CONTACT: If you would like to participate in this meeting, please send your (1) name, (2) organization/affiliation, (3) business email address, and (4) business phone number, as well as any requests for reasonable accommodation, to Stephanie Aktipis at AktipisS@state.gov or 202-647-4827 and Kayla Young at YoungKM@state.gov or 202-647-1804.

SUPPLEMENTARY INFORMATION: The Secretariat of the Convention on Biological Diversity (CBD) released a call (https://www.cbd.int/doc/notifications/2017/ntf-2017-037-abs-en.pdf) for views on potential implications of the use of digital sequence information on genetic resources for the three objectives of the CBD and the objective of the Nagoya Protocol on Access and Benefit Sharing (Nagoya Protocol). The input received on this issue will be used to inform decisions by the Parties to the CBD and the Nagoya Protocol at the 2018 Conference of Parties to the CBD and the Conference of Parties serving as the meeting of the Parties to the Nagoya Protocol.

We will provide a brief overview of the use of digital sequence information on genetic resources in the context of the CBD and the Nagoya Protocol and will listen to your comments, concerns, and questions about this issue. The information obtained from this meeting and any subsequent related meetings will inform the U.S. submission to the CBD. It will also help us prepare for U.S. participation in international meetings, specifically U.S. participation in future CBD and Nagoya Protocol meetings. Documents and other information related to the CBD and Nagoya Protocol can be found at this Web site: www.cbd.int.

The personal information requested above is being collected pursuant to 22 U.S.C. 2651a and 22 U.S.C. 4802 for the purpose of screening and pre-clearing participants to enter the host venue at the U.S. Department of State. The Department of State will use this information consistent with the routine uses set forth in the System of Records Notices for Protocol Records (STATE-33) and Security Records (State-36). Provision of this information is voluntary, but failure to provide accurate information may impede your ability to register for the event.

Reasonable Accommodation: This meeting is physically accessible to people with disabilities. Requests for sign language interpretation or other reasonable accommodation should be directed to (see FOR FURTHER INFORMATION) at least 5 days prior to the meeting date. Requests received after that date will be considered but might not be possible to fulfill.

Christine Dawson,
Director, Office of Conservation and Water Bureau of Oceans and International Environmental and Scientific Affairs, Department of State.

[FR Doc. 2017-13306 Filed 6-23-17; 8:45 am]

BILLING CODE 4710-09-P